DEPARTMENT OF THE INTERIOR

Bureau of Land Management

[CO-01-130-1060]

Notice of Public Hearings Addressing the Use of Helicopters and Motorized Vehicles During the Capture of Wild Horses

AGENCY: Bureau of Land Management, Department of the Interior.

ACTION: Notice of public hearings.

SUMMARY: A public hearing addressing the use of motorized vehicles and helicopters during the capture of wild horses in the Little Book Cliffs Wild Horse Range, Grand Junction Field Office, Grand Junction, Colorado.

DATES: The public hearing has been scheduled for September 9, 2004 at the Grand Junction Field Office; 2815 H Road; Grand Junction, Colorado. Time of the meeting will be 7 p.m. Information for the meeting will be announced through public notices, local newspaper announcements and mailings.

ADDRESSES: Grand Junction Field Office: 2815 H Road, Grand Junction, Colorado 81506.

SUPPLEMENTARY INFORMATION: The Little Book Cliffs wild horse gather is scheduled for completion during October 2004 if weather allows. Otherwise the gather will occur between August 1 and October 1, 2005: For additional information regarding the public hearing please contact Jim Dollerschell, Bureau of Land Management (BLM), 2815 H Road, Grand Junction, Colorado 81506; telephone (970) 244-3016 or e-mail Jim_Dollerschell@co.blm.gov.

Dated: July 23, 2004.
Raul Morales,
Associate Field Office Manager.

[FR Doc. 04-17282 Filed 7-29-04; 8:45 am]

BILLING CODE 4310-AG-P